DEPARTMENT OF THE INTERIOR

Fish and Wildlife Service

[FWS-R9-IA-2008-N0045]; [96300-1671-0000-P5]

Receipt of Applications for Permit

AGENCY: Fish and Wildlife Service, Interior.

ACTION: Notice of receipt of applications for permit.

SUMMARY: The public is invited to comment on the following applications to conduct certain activities with endangered species and/or marine mammals.

DATES: Written data, comments or requests must be received by April 16, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: International Center for the Preservation of Wild Animals (The Wilds), Cumberland, OH, PRT-174822.

The applicant requests a permit to import two male and one female captive-born dhole (Cuon alpinus lepterus) from Ontario, Canada for the purpose of enhancement of the survival of the species.

Applicant: Los Angeles Zoo, Los Angeles, CA, PRT-175905.

The applicant requests a permit to export one male and two female captive-born yellow-footed rock wallabies (Petrogale xanthopus xanthopus) to France for the purpose of enhancement of the survival of the species.

Applicant: Woodland Park Zoo, Seattle, WA, PRT-174619.

The applicant requests a permit to import one captive-born male lowland gorilla (Gorilla gorilla gorilla) from Zoo Granby, Granby, Quebec, Canada, for the purpose of enhancement of the survival of the species.

Applicant: Cincinnati Zoo & Botanical Garden, Cincinnati, OH, PRT-171630.

The applicant requests a permit to import three male and one female black-footed cats (Felis nigripes) from Cat Conservation Trust, Cradock, South Africa, for the purpose of enhancement of the survival of the species.

Applicant: Richard J. Edelen, Thorton, CO, PRT-174604.

The applicant requests a permit to import the sport-hunted trophy of one male bontebok (Damaliscus pygargus pygargus) culled from a captive herd maintained under the management program of the Republic of South Africa, for the purpose of enhancement of the survival of the species.

Applicant: Bruce L. Batory, Sugar Land, TX, PRT-175457.

The applicant requests a permit to import the sport-hunted trophy of one male bontebok (Damaliscus pygargus pygargus) culled from a captive herd maintained under the management program of the Republic of South Africa, for the purpose of enhancement of the survival of the species.

Applicant: Burke H. Tackett, Nampa, ID, PRT-175704.

The applicant requests a permit to import the sport-hunted trophy of one male bontebok (Damaliscus pygargus pygargus) culled from a captive herd maintained under the management program of the Republic of South Africa, for the purpose of enhancement of the survival of the species.

Applicant: Steve Martin's Working Wildlife, Frazier Park, CA, PRT-069429 and 069443.

The applicant requests re-issuance of permits to re-export and re-import one male and one female leopard (Panthera pardus) to worldwide locations for the purpose of enhancement of the species through conservation education. The permit numbers and animals are: 069429, Ivory and 069443, Crystal. This notification covers activities to be conducted by the applicant over a three-year period and the import of any potential progeny born while overseas.

Marine Mammals

The public is invited to comment on the following application for a permit to conduct certain activities with marine mammals. The application was submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Matson's Laboratory, Milltown, MT, PRT-166346.

The applicant requests a permit to import teeth from polar bears (Ursus maritimus) which were taken during subsistence harvests in Nunavut, Canada, for age analysis for the purpose of scientific research and enhancement of survival of the species. This notification covers activities to be conducted by the applicant over a five-year period.

Dated: February 22, 2008.
Lisa J. Lierheimer,
Senior Permit Biologist, Branch of Permits, Division of Management Authority.

[FR Doc. E8-5211 Filed 3-14-08; 8:45 am]

BILLING CODE 4310-55-P